Proclamation 9743 of May 4, 2018

National Hurricane Preparedness Week, 2018

By the President of the United States of America

A Proclamation

During National Hurricane Preparedness Week, I encourage everyone in hurricane-prone areas to make all necessary preparations for the 2018 hurricane season, which starts this month in the Eastern Pacific and next month in the Atlantic and Central Pacific. Hurricanes threaten the lives of those in their paths and can cause serious damage to homes, businesses, and communities. Having just endured last year one of the most tragic and destructive hurricane seasons in our history, we know all too well the critical need to be prepared to prevent and mitigate hurricane-related harm.

Last year, three hurricanes of Category 4 or higher intensity tragically inflicted immense damage on our communities when they made landfall in the United States and its territories. These three landfalls occurred within less than a month of each other, claiming lives and affecting millions of Americans. Hurricane Harvey's record-breaking rainfall and flooding caused nearly $125 billion of damage to southeastern Texas and Louisiana, making it the second most costly storm on record. It was also the first Category 4 hurricane to strike the United States or its territories since 2004. Not long after, another Category 4 storm, Hurricane Irma slammed into Florida and Puerto Rico. Less than two weeks later, Hurricane Maria, the 10th most intense Atlantic hurricane on record, devastated Puerto Rico and the U.S. Virgin Islands. Federal support to those affected by the 2017 hurricane season was extensive, as the Government delivered the largest ever disaster relief package to States and territories in need.

The incredibly active hurricane season of 2017 showed us the various ways hurricanes can affect lives and property. Storm surges can spread miles inland from the coastline, claiming lives and destroying property. Torrential rainfall, from both hurricanes and storms surrounding them, can cause deadly and hazardous urban and river flooding that reaches far inland. Winds can likewise cause significant property damage over large areas. Other hurricane-related events, like tornadoes, can affect communities well beyond the storm's path. Even if those hurricanes stay hundreds of miles offshore, they can cause harm by generating dangerous waves and rip currents in coastal areas.

Being prepared is the key to minimizing hurricane-related harm. Everyone should take steps now to prepare for this hurricane season. This includes developing plans to stay current about the latest weather developments. Last year, I signed the Weather Research and Forecasting Innovation Act, which strengthens our weather forecasting capabilities. I am proud that the National Oceanic and Atmospheric Administration is well underway in implementing this Act and on the path to producing the best weather forecasting model in the world.

As hurricane season begins, we must remind ourselves that there are no substitutes for having emergency supplies and a well-prepared emergency plan in place. Before this year's hurricane season begins, take the time to sign up for emergency alerts, make plans for shelter and evacuation, gather supplies for your emergency kit, check your insurance coverage and document your property, strengthen your financial preparedness, harden your home, and develop a plan to keep in touch with your loved ones. Hurricane preparedness information provided by the National Weather Service and the Ready Campaign led by the Federal Emergency Management Agency (FEMA) is available online and can help you to develop your plan today so that you can properly safeguard yourself, your family, pets, and property in the event of a hurricane.

My Administration continues to help the areas hit by last year's hurricanes recover and become more resilient against future storms. Yet, ensuring our Nation's resilience requires a commitment from all of us. Communities should come together now to take long-term actions to prepare for and reduce the economic, structural, social, and environmental effects of these storms. Preparedness is everyone's responsibility.

NOW, THEREFORE, I, DONALD J. TRUMP, President of the United States of America, by virtue of the authority vested in me by the Constitution and the laws of the United States, do hereby proclaim May 6 through May 12, 2018, as National Hurricane Preparedness Week. I call upon everyone to take action this week by making use of the online resources provided by the National Weather Service and FEMA to safeguard your families, homes, and businesses from the dangers of hurricanes and severe storms. I also call upon Federal, State, local, tribal, and territorial emergency management officials to help inform our communities about hurricane preparedness and response in order to help prevent storm damage and save lives. Further, I recognize the ongoing National Level Exercise 2018, in which more than 250 organizations are participating to examine the ability of all levels of government, private industry, and nongovernmental organizations to protect against, respond to, and recover from a major mid-Atlantic hurricane.

IN WITNESS WHEREOF, I have hereunto set my hand this fourth day of May, in the year of our Lord two thousand eighteen, and of the Independence of the United States of America the two hundred and forty-second.

[FR Doc. 2018-10276

Filed 5-10-18; 11:15 am]

Billing code 3295-F8-P